INTERNATIONAL TRADE COMMISSION

[USITC SE-04-027]

Sunshine Act Meeting

Agency Holding the Meeting: United States International Trade Commission.

Time and Date: October 21, 2004 at 2 p.m.

Place: Room 101, 500 E Street SW., Washington, DC 20436, Telephone: (202) 205-2000.

Status: Open to the public.

Matters to be Considered: 1. Agenda for future meetings: None.

2. Minutes

3. Ratification List

4. Inv. No. 731-TA-1088 (Preliminary) (Polyvinyl Alcohol from Taiwan)—briefing and vote. (The Commission is currently scheduled to transmit its determination to the Secretary of Commerce on or before October 22, 2004; Commissioners' opinions are currently scheduled to be transmitted to the Secretary of Commerce on or before October 29, 2004.)

5. Outstanding action jackets:

(1) Document No. GC-04-114 concerning proposed rulemaking and changes in Agency procedures.

In accordance with Commission policy, subject matter listed above, not disposed of at the scheduled meeting, may be carried over to the agenda of the following meeting.

Issued: October 13, 2004.
By order of the Commission.
Marilyn R. Abbott,
Secretary to the Commission.

[FR Doc. 04-23359 Filed 10-14-04; 11:16 am]

BILLING CODE 7020-02-P